FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 12, 2013.

A. Federal Reserve Bank of Chicago (Colette A. Fried, Assistant Vice President) 230 South LaSalle Street, Chicago, Illinois 60690-1414:

1. D. Robert Downing, Indianola, Iowa; to acquire voting shares of Central South Bancorporation, Inc., and thereby indirectly acquire voting shares of Peoples Savings Bank, both in Indianola, Iowa.

2. David H. McKee, individually, and as special voting trustee of the McKee Family Trust, and as a member of the McKee Norris Family Control Group, all of Indianapolis, Indiana; to acquire voting shares of Midstate Financial Corporation, and thereby indirectly acquire voting shares of Hendricks County Bank and Trust Company, both in in Brownsburg, Indiana.

B. Federal Reserve Bank of Kansas City (Dennis Denney, Assistant Vice President) 1 Memorial Drive, Kansas City, Missouri 64198-0001:

1. The Richard W. Agee Marital Trust, the Eloise R. Agee Irrevocable Trust; and Rex A. Marquart, as trustee of both trusts, all of Lincoln, Nebraska; to acquire voting shares of First of Minden Financial Corporation, and thereby indirectly acquire voting shares of First Bank and Trust Company, both in Minden, Nebraska.

Board of Governors of the Federal Reserve System, October 23, 2013.
Michael J. Lewandowski,
Associate Secretary of the Board.

[FR Doc. 2013-25368 Filed 10-28-13; 8:45 am]

BILLING CODE 6210-01-P